DEPARTMENT OF THE INTERIOR

Bureau of Land Management

[CO-140-08-1610-DP]

Notice of Public Meeting, Northwest Colorado Resource Advisory Council Subcommittees for the Glenwood Springs Resource Management Plan Revision

AGENCY: Bureau of Land Management, DOI.

ACTION: Notice of Public Meeting.

SUMMARY: In accordance with the Federal Land Policy and Management Act (FLPMA) and the Federal Advisory Committee Act of 1972 (FACA), the U.S. Department of the Interior, Bureau of Land Management (BLM) Northwest Colorado Resource Advisory Council (RAC) Subcommittee on the Glenwood Springs Resource Management Plan (RMP) Revision will meet as indicated below.

DATES: January 16 and 30, February 6 and 20, 2008; from 5 p.m. to 7:30 p.m.

ADDRESSES: The Glenwood Springs Subcommittee will meet at the Glenwood Springs Energy Office Conference Room, 2425 S. Grand Ave, Glenwood Springs, CO.

FOR FURTHER INFORMATION CONTACT: Brian Hopkins, Planning and Environmental Coordinator, 50629 Hwy. 6&24, Glenwood Springs, CO, telephone 970-947-2840.

SUPPLEMENTARY INFORMATION: The Northwest Colorado RAC advises the Secretary of the Interior, through the Bureau of Land Management, on a variety of public land issues in northwestern Colorado. A sub-committee has been formed under this RAC to advise it regarding the Glenwood Springs RMP Revisions. The 14 individuals on this subcommittee represent a broad range of interests and have specific knowledge of the subcommittee represent a broad range of interests and have specific knowledge of the Field Offices. Recommendations developed by these subcommittees will be presented formally for discussion to the NW RAC at publicly announced meetings of the full NW RAC. Both the subcommittee meetings and the full NW RAC meetings have public comment opportunities.

Dated: December 6, 2007.
Jamie Connell,
Glenwood Springs Field Manager, Lead Designated Federal Officer for the Northwest Colorado RAC.

[FR Doc. 07-6041 Filed 12-12-07; 8:45 am]

BILLING CODE 4310-JB-M